FEDERAL COMMUNICATIONS COMMISSION

47 CFR Part 76

[MB Docket No. 05-28; DA 05-169]

Inquiry Regarding the Impact of Certain Rules on Competition in the Multichannel Video Programming Distribution Market

AGENCY: Federal Communications Commission.

ACTION: Review of rules and statutory provisions; extension of comment period.

SUMMARY: This decision extends the period for filing public reply comments in this proceeding at the request of a commenter.

DATES: Reply comments were due on or before March 16, 2005, and are now due on or before March 31, 2005.

FOR FURTHER INFORMATION CONTACT: Marcia Glauberman, Media Bureau, 202-418-7046.

SUPPLEMENTARY INFORMATION: This is a summary of the Commission's Order in MB Docket No. 05-28, DA 05-627, adopted March 9, 2005, and released on March 9, 2005. The full text of this Order is available for inspection and copying during regular business hours in the FCC Reference Center, 445 Twelfth Street, SW., Room CY-A257, Portals II, Washington, DC 20554, and may also be purchased from the Commission's copy contractor, Best Company and Printing, Inc., Room CY-B402, telephone (800) 378-3160, e-mail www.BCPIWEB.COM. To request materials in accessible formats for people with disabilities (electronic files, large print, audio format and Braille), send an e-mail to fcc504@fcc.gov or call the Consumer & Governmental Affairs Bureau at (202) 418-0530 (voice), (202) 418-0432 (TTY).

Synopsis of the Order

1. By a Public Notice dated January 25, 2005, the Media Bureau began an inquiry on the impact of specific provisions of the Communications Act of 1934, as amended, and Commission rules on competition in the multichannel video programming distribution (MVPD) market. (70 FR 6593, February 8, 2005.) The Commission is required to submit a report to Congress on the results of its inquiry no later than nine months after the enactment date of the Satellite Home Viewer Extension and Reauthorization Act of 2004 (SHVERA), i.e., September 8, 2005. (Pub. L. 108-447, § 208, 118 Stat 2809, 3428-29, 2004. The SHVERA was enacted on December 8, 2004, as title IX of the “Consolidated Appropriations Act, 2005.) The Public Notice called for reply comments on March 16, 2005.

2. The Walt Disney Company, Disney ABC Cable Networks Group, The ABC Television Network, and the ABC-owned television stations (collectively, Disney) has requested a thirty day extension of time, until April 15, 2005, to file reply comments. Disney seeks this extension of time to prepare a detailed reply to the issues raised in the initial comments, including an economic analysis in response to a study on retransmission consent submitted by the Joint Cable Commenters.

3. The Commission concludes that the Walt Disney Company has stated good cause for itself and others to receive an extension of fifteen days for the filing of their reply comments. A fifteen day extension will result in a more complete discussion and analysis of the issues raised in the initial comments.

4. Accordingly, It is ordered that, pusuant to Sections 4(i), 4(j), and 5(c) of Communications Act of 1934, as amended, 47 U.S.C. 154(i), 154(j) and 155(c), and sections 0.61, 0283, and 1.46 of the Commission's rules, 47 CFR 0.61, 0.283, and 1.46, the date for filing reply comments in MB Docket No. 05-28 is extended until March 31, 2005.

Federal Communications Commission.
Thomas Horan,
Senior Legal Advisor, Media Bureau.

[FR Doc. 05-5835 Filed 3-22-05; 8:45 am]

BILLING CODE 6712-01-P